DEPARTMENT OF ENERGY

Federal Energy Regulatory Commission

[Docket No. CP09-89-000]

CenterPoint Energy Gas Transmission Company; Notice of Request Under Blanket Authorization

April 8, 2008.

Take notice that on March 26, 2009, CenterPoint Energy Gas Transmission Company (CenterPoint), 1111 Louisiana Street, Houston, Texas, filed in Docket No. CP09-89-000 a prior notice request pursuant to sections 157.205 of the Commission's regulations under the Natural Gas Act (NGA), and CenterPoint's blanket certificate issued in Docket No. CP82-384-000 on September 1, 1982,¹ and amended in Docket No. CP82-384-001 on February 10, 1983.² CenterPoint seeks authorization to install approximately 5.6 mile of 16-inch pipe, Line F-625, and an 8-inch delivery meter in Caddo Parish, Louisiana, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

¹ 20 FERC ¶ 62,408 (1982).

² 22 FERC ¶ 61,148 (1983).

Specifically, CenterPoint proposes to install approximately 5.6 miles of 16-inch diameter steel pipe, Line 625, extending from a 16-inch tap on CenterPoint's existing Line F-West at 372+00, and an 8-inch ultrasonic meter skid at the terminus of Line F-625 located within the Arsenal Hills Plant facilities. The 8-inch meter station will consist of ultrasonic and low flow turbine meters, worker and monitor regulators, and a control/gas chromatograph package which includes a Daniel gas chromatograph, moisture analyzer and Bristol electronic gas measurement. Additional auxiliary materials will be installed including filter separators, a 25 barrel drain tank, a 24-volt DC battery system, marshalling panels, SCADA and communications package, transmitters, yard piping and valves. The proposed facilities will be designed for a maximum allowable operating pressure of 1000 psig and a 650 psig delivery pressure with a capacity of 80,000 Dth/d. The estimated cost of the project is $15.0 million. The proposed project will allow CenterPoint to provide firm transportation service to meet the needs of a new power generation unit being installed at the Arsenal Hill Plant facility by American Electric Power's Southwestern Electric Power Company.

Any questions regarding this application should be directed to Larry Thomas, Director, Rates & Regulatory, CenterPoint Energy Gas Transmission Company, P. O. Box 21734, Shreveport, Louisiana 71151, or call (318) 429-2804.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link. Persons unable to file electronically should submit an original and 14 copies of the protest or intervention to the Federal Energy Regulatory Commission, 888 First Street, NE., Washington, DC 20426.

Comment Date: May 8, 2009.

Kimberly D. Bose,
Secretary.

[FR Doc. E9-8550 Filed 4-14-09; 8:45 am]

BILLING CODE 6717-01-P